DEPARTMENT OF TRANSPORTATION

National Highway Traffic Safety Administration

[Docket No. NHTSA-2009-0084; Notice 1]

American Honda Motor Co., Inc., Receipt of Petition for Decision of Inconsequential Noncompliance

American Honda Motor Co., Inc. (Honda) has determined that certain 2008 and 2009 model year Honda Civic Si model passenger cars when equipped with dealer accessory 18-inch diameter wheels do not fully comply with paragraph S4.2(a) of 49 CFR 571.138, Federal Motor Vehicle Safety Standard (FMVSS) No. 138 Tire Pressure Monitoring Systems. Honda has filed an appropriate report pursuant to 49 CFR Part 573, Defect and Noncompliance Responsibility and Reports.

Pursuant to 49 U.S.C. 30118(d) and 30120(h) (see implementing rule at 49 CFR part 556), Honda has petitioned for an exemption from the notification and remedy requirements of 49 U.S.C. Chapter 301 on the basis that this noncompliance is inconsequential to motor vehicle safety.

This notice of receipt of Honda's petition is published under 49 U.S.C. 30118 and 30120 and does not represent any agency decision or other exercise of judgment concerning the merits of the petition.

The exact number of vehicles involved is not known. However, a total of approximately 952 wheels, or 238 complete wheel sets, were sold to Honda dealerships by Honda between July 2006 and September 2008. These wheel sets were sold with a replacement tire pressure placard in accordance with FMVSS No. 110, indicating a tire inflation pressure of 250 kPa (36 PSI) for 215/40RZ18 tires having a load capacity rating of 85Y.

Paragraph S4.2(a) of FMVSS No. 138 requires in pertinent part:

S4.2 TPMS detection requirements. The tire pressure monitoring system must:

(a) Illuminate a low tire pressure warning telltale not more than 20 minutes after the inflation pressure in one or more of the vehicle's tires, up to a total of four tires, is equal to or less than either the pressure 25 percent below the vehicle manufacturer's recommended cold inflation pressure, or the pressure specified in the 3rd column of Table 1 of this standard for the corresponding type of tire, whichever is higher * * *

In its petition, Honda explained that after the beginning of retail sales of 2009 model year Honda Civic Si models it discovered that the recommended electronic method of updating the TPMS settings to accommodate proper installation of the subject optional wheel sets would incorrectly inform technicians that the adjustments had been completed successfully. The result is that the TPMS warning threshold remains at the standard setting for the original equipment 17-inch wheels of not less than 175 kPa (25 PSI) for the standard recommended tire pressure of 230 kPa (33 PSI). The minimum allowable TPMS threshold for the 18-inch accessory wheels should be 190 kPa (27 PSI), based on the recommended pressure of 250 kPa (36 PSI) as indicated on the replacement tire pressure placard. As a result, the low tire pressure warning telltale required by S4.2(a) will not illuminate at the 27 PSI minimum allowable TPMS threshold necessitated by installation of the dealer accessory wheels and tires.

Honda explained that the load capacity for each of the 215/40RZ18 85Y tires is 500 kilograms (1,100 lbs) at 230 kPa (33 PSI), calculated using the Japan Automotive Tyre Manufacturer's Association (JATMA) method, as recognized by NHTSA in FMVSS No. 110. The maximum allowable load according to the Gross Axle Weight Ratings (GAWR) for a 2008 or 2009 Civic Si is 477 kilograms (1,050 lbs) for each front tire and 425 kilograms (938 lbs) for each rear tire, well within the load capacity specified by JATMA. Honda therefore expressed its belief that this noncompliance is inconsequential to motor vehicle safety because at the 25 PSI TPMS threshold, adequate load capacity remains for the 215/40RZ18 58Y tires when mounted on the subject replacement rims on these vehicles.

In summation, Honda states that it believes that the noncompliances are inconsequential to motor vehicle safety and that no corrective action is warranted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Anyone is able to search the electronic form of all comments received into any of our dockets by the name of the individual submitting the comment (or signing the comment, if submitted on behalf of an association, business, labor union, etc.). DOT's complete Privacy Act Statement in the Federal Register published on April 11, 2000 (65 FR 19477-78).

You may view documents submitted to a docket at the address and times given above. You may also view the documents on the Internet at http://www.regulations.gov by following the online instructions for accessing the dockets available at that Web site.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: June 11, 2009.

Authority: (49 U.S.C. 30118, 30120: delegations of authority at CFR 1.50 and 501.8).

Issued on: May 6, 2009.
Claude H. Harris,
Director, Office of Vehicle Safety Compliance.

[FR Doc. E9-11021 Filed 5-11-09; 8:45 am]

BILLING CODE 4910-59-P